DEPARTMENT OF AGRICULTURE

Animal and Plant Health Inspection Service

[Docket No. APHIS-2008-0059]

ArborGen, LLC; Availability of an Environmental Assessment for Controlled Release of a Genetically Engineered Eucalyptus Hybrid

AGENCY: Animal and Plant Health Inspection Service, USDA.

ACTION: Notice; reopening of comment period.

SUMMARY: We are reopening the comment period for an environmental assessment for a proposed controlled field release of a genetically engineered clone of a Eucalyptus hybrid. This action will allow interested persons additional time to prepare and submit comments on the revised environmental assessment.

DATES: We will consider all comments that we receive on or before February 18, 2010.

ADDRESSES: You may submit comments by either of the following methods:

• Federal eRulemaking Portal: Go to (http://www.regulations.gov/fdmspublic/component/main?main=DocketDetail&d=APHIS-2008-0059) to submit or view comments and to view supporting and related materials available electronically.

• Postal Mail/Commercial Delivery: Please send two copies of your comment to Docket No. APHIS-2008-0059, Regulatory Analysis and Development, PPD, APHIS, Station 3A-03.8, 4700 River Road Unit 118, Riverdale, MD 20737-1238. Please state that your comment refers to Docket No. APHIS-2008-0059.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Biotechnology Regulatory Services, APHIS, 4700 River Road Unit 147, Riverdale, MD 20737-1236; (301) 734-7324. To obtain copies of the environmental assessment, contact Ms. Cynthia Eck at (301) 734-0667; email: (cynthia.a.eck@aphis.usda.gov).

SUPPLEMENTARY INFORMATION: On June 3, 2009, APHIS published a notice¹ in the Federal Register (74 FR 26648-26649, Docket No. APHIS-2008-0059) announcing the availability of an environmental assessment for public review and comment for a proposed controlled field release of a genetically engineered clone of a Eucalyptus hybrid.

¹ To view the notice, the environmental assessment, and the comments we have received, go to (http://www.regulations.gov/fdmspublic/component/main?main=DocketDetail&d=APHIS-2008-0059).

Comments on the environmental assessment were required to be received on or before July 6, 2009. Commenters noted that one of the documents cited in the environmental assessment, a U.S. Forest Service assessment of hydrological impacts from Eucalyptus, was not available for review and requested that the document be made available and the comment period for the environmental assessment extended. APHIS has amended the environmental assessment to include the Forest Service document and other relevant information, and is reopening the comment period on Docket No. APHIS-2008-0059 for an additional 30 days. This action will allow interested persons additional time to prepare and submit comments. We will also consider all comments received between July 7, 2009 (the day after the close of the original comment period), and the date of this notice.

Authority: 7 U.S.C. 7701-7772 and 7781-7786; 31 U.S.C. 9701; 7 CFR 2.22, 2.80, and 371.3.

Done in Washington, DC, this 6th day of January 2010.

Cindy Smith
Administrator, Animal and Plant Health Inspection Service.

[FR Doc. 2010-762 Filed 1-15-10; 2:16 pm]

BILLING CODE 3410-34-S